DEPARTMENT OF AGRICULTURE

Forest Service

Kootenai and Idaho Panhandle National Forests Land and Resource Management Plan Revision

AGENCY: Forest Service, USDA.

ACTION: Notice of adjustment.

SUMMARY: Kootenai and Idaho Panhandle National Forests here referred to as the Kootenai and Idaho Panhandle Zone (KIPZ) located in Lincoln, Sanders, and Flathead counties in Montana; Bonner, Boundary, Kootenai, Shoshone, Benewah, Latah and Clearwater counties in Idaho; and Pend Oreille county in Washington. A Notice of Intent to prepare an environmental impact statement to revise Land and Resource Management Plans was published in the Federal Register of April 30, 2002 (67 FR 21210). Kootenai and Idaho Panhandle Zone is adjusting the forest plan revision process from compliance with the 1982 land and resource management planning regulations to compliance with new regulations published in the Federal Register of January 5, 2005 (70 FR 1062).

Public Involvement: Scheduled meetings and details of other public involvement and collaborative opportunities will be posed on the Kootenai and Idaho Panhandle (KIPZ) Web site, at www.fs.fed.us./kipz. People interested in getting on our mailing list should contact Jodi Kramer at (208) 765-7235, or e-mail at jodikramer@fs.fed.us.

FOR FURTHER INFORMATION CONTACT: Contact Kirsten Kaiser, Co-Team Leader, Kootenai National Forest, at (406) 293-6211 or e-mail at kkaiser@fs.fed.us, or Gary Ford Co-Team Leader, Idaho Panhandle National Forests, at (208) 765-7478 or e-mail at glford@fs.fed.us.

Responsible Officials: Bob Castaneda, Supervisor of the Kootenai National Forest, 1101 U.S. Highway 2 West, Libby, MT 59923 and Ranotta McNair, Supervisor of the Idaho Panhandle National Forests, 3815 Schreiber Way, Coeur d'Alene, Idaho 83815-8363.

SUPPLEMENTARY INFORMATION: A notice of Intent to prepare an environmental impact statement to revise Land and Resource Management Plans was published in the Federal Register of April 30, 2002 (67 FR 21210). Kootenai and Idaho Panhandle Zone is adjusting the forest plan revision process from compliance with the 1982 land and resource management planning regulations to compliance with new regulations published in the Federal Register of January 5, 2005 (70 FR 1062).

This adjustment will result in the following:

1. The Responsible Official will now be the Forest Supervisors.

2. Each National Forest will establish an Environmental Management System prior to a decision on the revised forest plans.

3. The emphasis on public involvement will shift from comment on a range of alternative plans, to iterative public-Forest Service collaboration, intended to meld a single option into a broadly supported plan.

For additional information on public meeting, other public involvement and collaborative opportunities, procedural differences between the 1982 and 2004 planning rules, timelines, reasoning behind our decision to transition to the new planning regulations, information on plan revision elements we have already completed before making this transition, and other details, consult the Kootenai, Idaho Panhandle Web site: www.fs.fed.us./kipz.

Dated: May 12, 2005.
Bob Castaneda,
Forest Supervisor, Kootenai National Forest.

[FR Doc. 05-9979 Filed 5-18-05; 8:45 am]

BILLING CODE 3410-11-M